FEDERAL COMMUNICATIONS COMMISSION

Notice of Public Information Collection(s) Being Reviewed by the Federal Communications Commission, Comments Requested

June 2, 2009.

SUMMARY: As part of its continuing effort to reduce paperwork burden and as required by the Paperwork Reduction Act (PRA) of 1995 (44 U.S.C. 3501-3520), the Federal Communications Commission invites the general public and other Federal agencies to comment on the following information collection(s). Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology. An agency may not conduct or sponsor a collection of information unless it displays a currently valid OMB control number. No person shall be subject to any penalty for failing to comply with a collection of information subject to the Paperwork Reduction Act that does not display a valid OMB control number.

DATES: Written PRA comments should be submitted on or before August 10, 2009. If you anticipate that you will be submitting comments, but find it difficult to do so within the period of time allowed by this notice, you should advise the contact listed below as soon as possible.

ADDRESSES: You may submit all PRA comments by email or U.S. post mail. To submit your comments by email, send them to PRA@fcc.gov. To submit your comments by U.S. mail, mark them to the attention of Cathy Williams, Federal Communications Commission, Room 1-C823, 445 12th Street, SW., Washington, DC 20554.

FOR FURTHER INFORMATION CONTACT: For additional information about the information collection(s), contact Cathy Williams at (202) 418-2918 or send an email to PRA@fcc.gov.

SUPPLEMENTARY INFORMATION: OMB Control Number: 3060-1115.

Title: DTV Consumer Education Initiative; Section 73.674; FCC Form 388.

Form Number: FCC Form 388.

Type of Review: Revision of a currently approved collection.

Respondents: Business or other for-profit entities; not-for-profit institutions; State, local or tribal governments.

Number of Respondents and Responses: 200 respondents; 1,800 responses.

Estimated Time per Response: 0.50 hour-85 hours.

Frequency of Response: On occasion reporting requirement; Quarterly reporting requirement; Third party disclosure requirement.

Obligation to Respond: Required to obtain benefits. The statutory authority for this collection of information is contained in Sections 4(i), 303(r), 335, and 336 of the Communications Act of 1934, as amended, 47 U.S.C. 154(i), 303(r), 335, and 336.

Total Annual Burden: 10,940 hours.

Total Annual Cost: None.

Confidentiality: No need for confidentiality required with this collection of information.

Privacy Impact Assessment: No impact(s).

Needs and Uses: After the nationwide DTV transition date of June 12, 2009, full-power television broadcast stations must transmit only digital signals, and may no longer transmit analog signals, except for limited analog “nightlight” service. The DTV Delay Act directs the Commission to take any actions “necessary or appropriate to implement the provisions, and carry out the purposes” of the DTV Delay Act, and to do so within 30 days. Congress extended the transition date in order to permit analog service to continue until consumers have had additional time to prepare. But Congress also directed the Commission to provide flexibility for stations wanting to transition prior to the new date. Stations may have made extensive preparations for a February 17 digital transition and some may have difficulty altering their commitments at this time. The Commission's challenge is to provide opportunities for some stations to end analog broadcasting early without sacrificing the goal of giving consumers additional time to prepare.

Therefore, Commission is revising this information collection to eliminate most of the requirements after June 30, 2009; however, broadcasters must continue to comply with the consumer education information collection requirements until they have completed, and are operating, their final, full-authorized post-transition (DTV) facility.

The information collection requirements that will remain in the collection are as follows:

Broadcaster Education and Reporting (47 CFR 73.674)

(a) On-Air Education. Broadcasters must provide on-air DTV Transition consumer education information (e.g., via Public Service Announcements (PSAs), information crawls, snipes or tickers) to their viewers. Broadcasters must comply with one of three alternative sets of rules as provided in the Report and Order. Stations must also provide the following additional information: (1) Geographically specific information detailing areas that are covered by the Grade B analog contour but are not predicted to receive digital service; (2) educational information describing areas where analog signal strength is generally sufficient for viewers to rely on an indoor antenna but where it is likely that they will need an outdoor antenna to receive the digital signal; (3) information to consumers about the need to periodically “rescan” when using over-the-air digital reception equipment, particularly through the end of the transition; (4) stations that are changing their broadcast frequency from VHF to UHF (or vice versa), information to consumers about the need for additional or different equipment to avoid loss of service. Stations may include this information to satisfy part of their existing PSA requirements. In addition, if applicable, stations must provide specific notice to analog viewers who are likely to lose over-the-air service from the station due to changes in the geographic coverage area or population served by the station during or after the transition. Broadcasters must continue to provide on air education to their viewers until they complete their transition to digital-only operations and are operating their final, full-authorized post-transition (DTV) facility. In most cases, stations will be operating at full-authorized post-transition (DTV) facilities no later than the June 12, 2009 nationwide transition deadline, but, in some cases, stations will not have completed construction of their final, fully-authorized DTV facility by June 12 and, therefore, must continue to provide on-air DTV Transition consumer education information to their viewers.

(b) DTV Consumer Education Quarterly Activity Report, FCC Form 388. Broadcasters must electronically file a report about its DTV Transition consumer education efforts to the Commission on a quarterly basis. Broadcasters must begin filing these quarterly reports no later than April 10, 2008. In addition, if the broadcaster has a public Web site, they must post these reports on that Web site. Broadcasters must complete these filings every quarter until they complete their transition to digital-only operations and are operating their final, full-authorized post-transition (DTV) facility.

OMB Control Number: 3060-0386.

Title: Special Temporary Authorization (STA) Requests; Notifications; and Informal Filings; Sections 1.5, 73.1615, 73.1635 and 73.1740; CDBS Informal Forms.

Form Number: Not applicable.

Type of Review: Revision of a currently approved collection.

Respondents: Business or other for-profit entities; not-for-profit institutions.

Number of Respondents and Responses: 2,650 respondents; 2,650 responses.

Estimated Time per Response: 0.50 hour-4 hours.

Frequency of Response: On occasion reporting requirement.

Obligation to Respond: Required to obtain or retain benefits. The statutory authority for this information collection is contained in Sections 1, 4(i) and (j), 7, 301, 302, 303, 307, 308, 309, 312, 316, 318, 319, 324, 325, 336, and 337 of the Communications Act of 1934, as amended.

Confidentiality: No need for confidentiality required with this collection of information.

Total Annual Burden: 2,860.

Total Annual Costs: $539,660.

Privacy Impact Assessment(s): No impact(s).

Needs and Uses: The Commission is revising this information collection to eliminate the information collection requirements necessitated by the DTV transition. After the June 12, 2009 nationwide transition deadline, there will be no further need for these DTV transition-related collections. In addition, the Commission is revising this collection to update the specific Informal Application filing forms that may be filed electronically through the Commission's Consolidated Database System (“CDBS”).

The following information collection requirements are contained in this collection:

Special Temporary Authority (STA) Requests (47 CFR 73.1635). Broadcast stations (AM, FM, TV, Class A TV or LPTV licensees or permittees) may file a request for STA approval to permit a station to operate a broadcast facility for a limited period at a specified variance from the terms of the station's authorization or requirements of the FCC rules. Stations may file a request for STA approval for a variety of reasons. The request must describe the operating modes and facilities to be used. Types of STA requests include Engineering and Legal STAs.

Change in Official Mailing Address for Broadcast Station (47 CFR 1.5). Broadcast stations may file this form to report any changes in the station's mailing address, but cannot use this form to correct or change the name of the licensee.

Consummation Notice. Broadcast stations may file this form to notify the Commission when an assignment of license or transfer of control is consummated. The form also may be used by the station to request an extension of time to consummate.

Silent Notifications (47 CFR 73.1740). Broadcast stations (AM, FM, TV or Class A TV licensees) may file this form to notify the Commission of the station's suspension of broadcast operations pursuant to 47 CFR 73.1740. Broadcast stations also may use this form to request a silent STA or extension thereof. Types of Silent Notifications include Silent STA, Notification of Suspension, Resumption of Operations, and Extension of Silent STA Request.

Section 73.1615 notifications (47 CFR § 73.1615). Broadcast stations (AM, FM, TV or Class A TV licensees) must file a notification under 47 CFR 73.1615(c) when such a station is in the process of modifying existing facilities as authorized by a construction permit and determines it is necessary to either discontinue operation or to operate with temporary facilities to continue program service for a period not more than 30 days. Licensees or permittees of directional or nondirectional FM, TV or Class A TV or nondirectional AM must file a notification and comply with 47 CFR 73.1615(a). Licensees or permittees of a directional AM station whose modification does not involve a change in operating frequency must file a notification and comply with 47 CFR 73.1615(b). Licensees or permittees of a directional AM station whose modification does involve a change in frequency and determines it is necessary to discontinue operation for a period not more than 30 days must file a notification and comply with 47 CFR 73.1615(d)(2).

Section 73.1615 informal letter requests (47 CFR 73.1615). Broadcast stations (AM, FM, TV or Class A TV licensees or permittees) must file an informal letter request under 47 CFR 73.1615(c)(1) when such a station is in the process of modifying existing facilities pursuant to 47 CFR 73.1615(a) or (b) and determines it is necessary to either discontinue operation or to operate with temporary facilities to continue program service for a period of more than 30 days. Licensees or permittees that filed notifications under 47 CFR 73.1615(d)(2) but which determine that it is necessary to discontinue operation for a period more than 30 days must file an informal letter request and comply with 47 CFR 73.1615(d)(1) and (2).

Federal Communications Commission.
Marlene H. Dortch,
Secretary.

[FR Doc. E9-13656 Filed 6-9-09; 8:45 am]

BILLING CODE 6712-01-P